RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Application for Employee Annuity Under the Railroad Retirement Act; OMB 3220-0002.

Section 2 of the Railroad Retirement Act (RRA) provides for payments of age and service, disability, and supplemental annuities to qualified employees. An annuity cannot be paid until the employee stops working for a railroad employer. In addition, the age and service employee must relinquish any rights held to such jobs. A disabled employee does not need to relinquish employee rights until attaining Full Retirement Age, or if earlier, their spouse files for a spouse annuity. Benefits become payable after the employee meets certain other requirements, which depend on the type of annuity payable. The requirements for obtaining the annuities are prescribed in 20 CFR 216, and 220.

The RRB currently uses the electronic AA-1cert, Application Summary and Certification process and the following forms to collect the information needed for determining entitlement to and the amount of, an employee retirement annuity: Form AA-1, Application for Employee Annuity Under the Railroad Retirement Act, Form AA-1d, Application for Determination of Employee Disability, and Form G-204, Verification of Workers Compensation/Public Disability Benefit Information.

The AA-1cert process obtains information from an applicant for either an age and service, or disability annuity by means of an interview with an RRB field-office representative. It obtains information about an applicant's marital history, work history, military service, benefits from other governmental agencies and railroad pensions. During the interview, the field-office representative enters the information obtained into an on-line information system. Upon completion of the interview, the applicant receives Form AA-1cert, Application Summary and Certification, which summarizes the information that was provided by/or verified by the applicant, for review and signature. The RRB also uses a manual version, RRB Form AA-1, in instances where the RRB representative is unable to contact the applicant in-person or by telephone, i.e., the applicant lives in another country.

Form AA-1d, Application for Determination of Employee Disability, is completed by an employee who is filing for a disability annuity under the RRA, or a disability freeze under the Social Security Act for early Medicare based on a disability. Form G-204, Verification of Workers Compensation/Public Disability Benefit Information, is used to obtain and verify information concerning worker's compensation or public disability benefits that are or will be paid by a public agency to a disabled railroad employee.

The RRB estimates the burden for the collection as follows:

Estimated Burden
Form No. | Estimated annual responses | Estimated completion time (per response) | Estimated annual burden (hours)
AA-1cert (interview) | 13,000 | 30 | 6,500
AA-1 manual (without assistance) | 65 | 62 | 67
AA-1d (manual without assistance) | 5 | 60 | 5
AA-1d (manual) (interview) | 5,000 | 35 | 2,916
G-204 | 40 | 15 | 10
Total | 18,110 |  | 9,498

The RRB proposes changes to the certification statements of Form(s) AA-1 and AA-1(cert) that are intended to provide additional specificity regarding post-application events that require an applicant to contact the RRB. Other non-burden impacting editorial and formatting changes to Form AA-1cert and Form AA-1 are also proposed.

The RRB proposes the addition of an item to Form AA-1d to ask a disability applicant if any additional medical procedures are scheduled after the filing of the form, and if so, what those procedures are, as well as minor non-burden impacting, editorial and formatting changes. The RRB proposes no changes to Form G-204.

Completion of the forms is required to obtain a benefit. One response is requested of each respondent.

Additional Information or Comments: To request more information or to obtain a copy of the information collection justification, forms, and/or supporting material, please call the RRB Clearance Officer at (312) 751-3363 or send an e-mail request to Charles.Mierzwa@RRB.gov. Comments regarding the information collection should be addressed to Ronald J. Hodapp, Railroad Retirement Board, 844 N. Rush Street, Chicago, Illinois 60611-2092 or send an e-mail to Ronald.Hodapp@RRB.gov. Written comments should be received within 60 days of this notice.

Charles Mierzwa,
RRB Clearance Officer.

[FR Doc. E6-12073 Filed 7-27-06; 8:45 am]

BILLING CODE 7905-01-P